DEPARTMENT OF HOMELAND SECURITY

Coast Guard

33 CFR Part 117

[CGD07-04-136]

Drawbridge Operation Regulations; Broward County Bridges, Atlantic Intracoastal Waterway, Broward County, FL

AGENCY: Coast Guard, DHS.

ACTION: Notice of temporary deviation from regulations; request for comments.

SUMMARY: The Commander, Seventh Coast Guard District, has approved a temporary deviation from the regulations governing the operation of the Broward County bridges across the Atlantic Intracoastal Waterway, Broward County, Florida. This temporary deviation allows the Coast Guard to test an operating schedule with the bridges opening twice an hour. It will allow the Coast Guard to gather data to determine if this schedule meets the reasonable needs of navigation while accommodating an increase in vehicle traffic throughout the county and whether it should be proposed as a permanent change.

DATES: This deviation is effective from 6 a.m. on December 1, 2004, until 8 p.m. on February 28, 2005. Comments must reach the Coast Guard on or before March 15, 2005.

ADDRESSES: You may mail comments and related material to Commander (obr), Seventh Coast Guard District, 909 SE. 1st Avenue, Room 432, Miami, FL 33131. Comments and material received from the public, as well as comments indicated in this preamble as being available in the docket, are part of docket [CGD07-04-136] and are available for inspection or copying at Commander (obr), Seventh Coast Guard District, 909 SE. 1st Avenue, Room 432, Miami, FL 33131 between 8 a.m. and 4 p.m., Monday through Friday, except Federal holidays.

FOR FURTHER INFORMATION CONTACT: Mr. Barry Dragon, Project Manager, Seventh Coast Guard District, Bridge Branch at (305) 415-6743.

SUPPLEMENTARY INFORMATION:

Request for Comments

We encourage you to comment on this test schedule by submitting comments and related material. If you do so, please include your name and address, identify the docket number for this notice [CGD07-04-136], indicate the specific section of this document to which each comment applies, and give the reason for each comment. Please submit all comments and related material in an unbound format, no larger than 8½ by 11 inches, suitable for copying. If you would like to know they reached us, please enclose a stamped, self-addressed postcard or envelope. We will consider all comments and material received during the comment period.

Discussion of the Test Schedule

This test schedule has been requested by various public officials within the County of Broward to ease vehicular traffic, which has overburdened roadways, and to standardize bridge openings for vessel traffic. This test will allow the bridges in Broward County to operate on a standardized schedule, which will meet the reasonable needs of navigation and improve the vehicular traffic. The schedules will be staggered in order to facilitate the movement of vessels from bridge to bridge along the Atlantic Intracoastal Waterway.

The existing regulations governing the operation of the County bridges are published in 33 CFR 117.5 and 117.261. This temporary deviation includes all bridges across the Atlantic Intracoastal Waterway in Broward County. During the deviation period, from 6 a.m. on December 1, 2004, until 8 p.m. on February 28, 2005, the bridges will operate as follows:

Open on the Hour and Half Hour: Atlantic Boulevard, mile 1056.0, Commercial Boulevard, mile 1059.0, East Sunrise Boulevard, mile 1062.6, SE. 17th Street Causeway, mile 1065.9, Dania Beach Boulevard, mile 1069.4, Hollywood Boulevard, mile 1072.2.

Open on the Quarter Hour and Three-Quarter Hour: NE. 14th Street, mile 1055.0, Oakland Park Boulevard, mile 1060.5, East Las Olas Boulevard, mile 1064.0, Sheridan Street, mile 1070.5, Hallandale Beach Boulevard, mile 1074.0.

If at any time during this test deviation it is determined that the test schedule poses any safety concerns at any location, this test deviation may be withdrawn.

The District Commander has granted a test deviation from the operating regulations listed in 33 CFR 117.5 and 117.261 to evaluate the effectiveness of these new schedules on vehicular and vessel traffic.

Dated: November 4, 2004.
Greg E. Shapley,
Chief, Bridge Administration, Seventh Coast Guard District.

[FR Doc. 04-25413 Filed 11-15-04; 8:45 am]

BILLING CODE 4910-15-P